DEPARTMENT OF STATE

22 CFR Part 173

RIN 1400-AD50

[Public Notice: 8874]

Availability of Public Diplomacy Program Material Within the United States

AGENCY: Department of State.

ACTION: Final rule.

SUMMARY: The Department of State (“Department”) finalizes an interim final rule that establishes procedures for the Department to respond to domestic requests for program material disseminated by the Department abroad. The Department adopts the rule as final, without amendment.

DATES: This rule is effective September 22, 2014.

FOR FURTHER INFORMATION CONTACT: Hilary Brandt, Director, Office of Policy, Outreach, and Governance, Bureau of International Information Programs, U.S. Department of State, SA-5, Floor 5, 2200 C Street NW., Washington, DC 20522-0505; phone (202) 632-6460.

SUPPLEMENTARY INFORMATION: Section 1078 of the National Defense Authorization Act for Fiscal Year 2013, Public Law 112-239 (“NDAA”), amended section 501 of the United States Information and Educational Exchange Act of 1948, as amended (22 U.S.C. 1461; “the Smith-Mundt Act”) (“Section 501”), governing the domestic distribution of certain information about the United States, its people, and policies (“Program Material”) prepared for dissemination abroad.

The revised Section 501 authorizes the use of public diplomacy funds for the preparation, dissemination and use of Program Material “intended for foreign audiences abroad,” authorizes the Department to make such material available within the United States upon request, and requires that the Department issue regulations to establish procedures to maintain such material, for reimbursement of reasonable costs incurred in fulfilling requests for such material, and to ensure that persons seeking the release of such material have secured and paid for necessary U.S. rights and licenses. For more background, see the interim final rule, published at 79 FR 22016. The Department received no public comments in response to the interim final rule.

Regulatory Analyses

For the complete regulatory analysis regarding this rulemaking, please refer to the analysis included in the interim final rule, published at 79 FR 22016, which is adopted herein.

List of Subjects in 22 CFR Part 173

Broadcasting, Communications, Education, Foreign relations, Freedom of information, Information, Publications records, Radio.

PART 173—AVAILABILITY OF PUBLIC DIPLOMACY PROGRAM MATERIAL IN THE UNITED STATES

Accordingly, the interim final rule, amending 22 CFR chapter I, subchapter R, by adding a new part 173, published in the Federal Register on April 21, 2014, at 79 FR 22016, is adopted as final, without amendment.

Dated: September 2, 2014.
Richard Stengel,
Under Secretary for Public Diplomacy and Public Affairs.

[FR Doc. 2014-22489 Filed 9-19-14; 8:45 am]

BILLING CODE 4710-11-P